NATIONAL SCIENCE FOUNDATION

Privacy Act of 1974; System of Records

AGENCY: National Science Foundation.

ACTION: Notice of a modified system of records.

SUMMARY: The system of records Suspension, Debarment, and Research Misconduct Files NSF-55, contains records about persons considered for government-wide suspension, debarment, and/or research misconduct determination. The National Science Foundation (NSF) is proposing to add one new routine use and an additional statute in the authority section of this system of records.

DATES: Persons wishing to comment on the changes set out in this notice may do so on or before March 19, 2018.

This action will be applicable without further notice on March 19, 2018 unless modified by subsequent notice to incorporate comments received from the public.

ADDRESSES: You may submit comments, identified by [docket number and/or RIN number ___], by any of the following methods:

• Federal eRulemaking Portal: http://www.regulations.gov. Follow the instructions for submitting comments.

• Email: The Acting Senior Agency Official for Privacy, Dorothy Aronson, at daronson@nsf.gov. Include [docket number and/or RIN number ___] in the subject line of the message.

• Mail: Dorothy Aronson, Acting Senior Agency Official for Privacy, Office of Information and Resource Management, National Science Foundation, 2415 Eisenhower Avenue, Alexandria, VA 22314.

Instructions: NSF will post all comments on the NSF's website (https://www.nsf.gov/policies/privacy_act.jsp). All comments submitted in response to this Notice will become a matter of public record. Therefore, you should submit only information that you wish to make publicly available.

FOR FURTHER INFORMATION CONTACT: If you wish to submit general questions about the proposed new routine use for NSF-55, please contact Dorothy Aronson, Acting Senior Agency Official for Privacy, at daronson@nsf.gov or 703-292-8004.

SUPPLEMENTARY INFORMATION: Consistent with the American Innovation and Competitiveness Act, Public Law 114-329, NSF is proposing to modify the system by adding a new routine use that will allow NSF to notify other Federal science agencies of findings of research misconduct. In addition, the American Innovation and Competitiveness Act is being added to the “authority for maintenance of the system” section of the system of records notice.

SYSTEM NAME AND NUMBER

Suspension, Debarment, and Research Misconduct Files, NSF-55.

Security Classification:

None.

System Location:

National Science Foundation headquarters, Virginia.

System Manager(s):

General Counsel, Office of the General Counsel, NSF headquarters, Virginia.

Authority for Maintenance of the System:

Section 11(a), National Science Foundation Act of 1950, as amended, 42 U.S.C. 1870(a); Federal Acquisition Regulation (FAR), 2 CFR 180.800; 45 CFR part 689; and E.O. 12549 (February 18, 1986); American Innovation and Competitiveness Act, Pub. L. 114-329.

Purpose(s) of the System:

Information contained in this system of records is used to protect the federal government from the actions prohibited under applicable suspension, debarment, and research misconduct regulations; make decisions regarding suspension, debarment, and research misconduct; ensure that other federal agencies give effect to suspension, debarment, and research misconduct decisions rendered by NSF; and to ensure that NSF gives effect to suspension, debarment, and research misconduct decisions rendered by other Federal agencies.

Categories of Individuals Covered by the System:

Persons, including applicants for NSF grants and contracts, NSF grantees, contractors, and principal investigators, who are the subject of suspension, debarment, or research misconduct proceedings.

Categories of Records in the System:

Case files for persons considered for suspension, debarment or research misconduct; communications between the NSF and the respondent; interagency and intra-agency communications regarding proposed or completed suspensions, debarments, or research misconduct; investigative files; witness statements and affidavits; staff working papers; testimony transcripts; hearing exhibits; and records of any findings.

Record Source Categories:

Federal, state, and local agency officials; the NSF Office of the Inspector General; private persons; and respondents and their legal representatives.

Routine Uses of Records Maintained in the System, Including Categories of Users and Purposes of Such Uses:

NSF standard routine uses apply. In addition, information may be disclosed to:

(1) The General Services Administration (GSA) to compile and maintain the System for Award Management.

(2) A federal agency involved in suspension, debarment or research misconduct actions involving the same person.

(3) A federal, state, or local government agency to the extent necessary to allow NSF to obtain information maintained by those agencies in connection with a suspension, debarment, or research misconduct action.

(4) Other persons involved in or affected by a suspension, debarment, or research misconduct actions, including witnesses, awardee institutions, to support NSF objectives.

(5) A federal, state, local government agency, federal contractor, or grantee, for the purpose of verifying the identity of an individual NSF has suspended, debarred, or imposed actions upon pursuant to an administrative agreement or research misconduct determination.

(6) Other Federal science agencies upon a finding that research misconduct has occurred. For purposes of this section “Federal science agencies” consists of the following agencies or agency components:

(a) National Aeronautics & Space Administration.

(b) Environmental Protection Agency.

(c) Department of Health & Human Services—National Institutes of Health.

(d) Department of the Interior—U.S. Geological Survey.

(e) Department of Energy—Office of Science.

(f) Department of Commerce—National Institute of Standards and Technology, National Oceanic & Atmospheric Administration.

(g) Department of Agriculture—Agricultural Research Service, National Institute of Food and Agriculture, National Agricultural Statistics Services.

(h) Department of Defense.

(i) Department of Homeland Security—Directorate of Science and Technology, Domestic Nuclear Detection Office.

(j) Department of Transportation—Federal Highway Administration, Federal Aviation Administration.

(k) Department of Veteran Affairs.

Policies and Practices for Storage of Records:

Records are stored in paper and/or on electronic digital media.

Policies and Practices for Retrieval of Records:

Records are retrieved by the name of the person and/or entity being considered for suspension, debarment, or a finding of research misconduct.

Policies and Practices for Retention and Disposal of Records:

Records are maintained and disposed of in accordance with NARA approved record schedules.

Administrative, Technical, and Physical Safeguards:

Records are protected by administrative, technical, and physical safeguards administered by NSF.

Record Access Procedures:

Follow the Requesting Access to Records procedures found at 45 CFR part 613.

Contesting Record Procedures:

Follow the procedures found at 45 CFR part 613.

Notification Procedures:

Follow the procedures found at 45 CFR part 613.

Exemptions Promulgated for the System:

In accordance with 5 U.S.C. 552a(k)(2), investigative material in this system of records compiled for law enforcement purposes is exempt from subsections (c)(3), (d), (e)(1), (e)(4)(G), (H) and (I), and (f) of 5 U.S.C. 552a, provided, however, that if any individual is denied any right, privilege, or benefit that he or she would otherwise be entitled to by federal law, or for which he or she would otherwise be eligible, as a result of the maintenance of these records, such material shall be provided to the individual, except to the extent that the disclosure of the material would reveal the identity of a source who furnished information to the government with an express promise that the identity of the source would be held in confidence.

History:

An amendment to this system of records notice was last published in the Federal Register on June 10, 2016, 81 FR 37645-37654.

Dated: February 12, 2018.
Suzanne H. Plimpton,
Reports Clearance Officer, National Science Foundation.

[FR Doc. 2018-03155 Filed 2-14-18; 8:45 am]

BILLING CODE 7555-01-P